DEPARTMENT OF THE INTERIOR

Bureau of Land Management

[LLCOF02000.L51100000.GL0000.LVEMC1700600.17X]

Notice of Availability of the Draft Environmental Impact Statement for the Proposed Competitive Mineral Materials Sale at Parkdale, Fremont County, CO

AGENCY: Bureau of Land Management, Interior.

ACTION: Notice of availability.

SUMMARY: In compliance with the National Environmental Policy Act of 1969, as amended (NEPA), the Federal Land Policy and Management Act of 1976, as amended, the Bureau of Land Management (BLM) Royal Gorge Field Office, Cañon City, Colorado, has prepared a Draft Environmental Impact Statement (EIS), for the Proposed Competitive Mineral Materials Sale (COC-078119) at Parkdale, Fremont County, CO and by this notice is announcing the opening of the comment period.

DATES: To ensure that comments will be considered, the BLM must receive written comments on the Draft EIS within 45 days following the date the Environmental Protection Agency publishes its Notice of Availability in the Federal Register. The BLM will announce future meetings or hearings and any other public participation activities at least 15 days in advance through public notices, media releases and the BLM National NEPA Register at: https://eplanning.blm.gov/.

ADDRESSES: Comments related to the Proposed Competitive Mineral Materials Sale (COC-078119) at Parkdale, Fremont County, Colorado, must be submitted by any of the following methods:

• Electronic comments must be submitted via the BLM ePlanning website at https://go.usa.gov/xy6tn.

• Hard copy comments must be submitted via mail or hand-delivered to BLM Royal Gorge Field Office, 3028 East Main Street, Canon City, CO 81212.

Copies of the Draft EIS are available at this same street address or on the BLM ePlanning website at https://go.usa.gov/xy6tn. Click the “Documents & Reports” link on the left side of the screen to find the electronic version of the document.

FOR FURTHER INFORMATION CONTACT: Stephanie Carter, Geologist, 719-269-8551; 3028 East Main Street, Canon City, CO 81212; email: sscarter@blm.gov. Persons who use a telecommunications device for the deaf (TDD) may call the Federal Relay Service (FRS) at 1-800-877-8339 to contact Ms. Carter during normal business hours. The FRS is available 24 hours a day, 7 days a week, to leave a message or question. You will receive a reply during normal business hours.

SUPPLEMENTARY INFORMATION: The BLM has prepared a Draft EIS to evaluate an application submitted by Martin Marietta Materials, Inc. for a contract to mine 400-million net tons of aggregate reserves located on BLM-managed lands, adjacent to their existing hard rock quarry northwest of Cañon City, Colorado. The aggregate reserves consist of a granodiorite bedrock that will be mined utilizing blasting, crushing, and screening methods. The mining activity would be conducted on up to approximately 700 acres of BLM lands for up to 100 years, at a production of 4-million tons annually. The aggregate would be used in the production of asphalt and concrete, as well as for a source of railroad ballast. The current mine is the only rail-served aggregate mine in Colorado. The BLM mineral material reserves would sustain uninterrupted supplies of aggregate to meet future demands in southern Colorado and adjacent areas.

The formal public scoping process for the Draft EIS began July 31, 2019, with the publication of a Notice of Intent in the Federal Register (84 FR 37334). The BLM held one open-house scoping meeting in Cañon City, Colorado, on August 15, 2019. The public-scoping comments helped the BLM identify relevant issues and frame the scope of analysis in the Draft EIS.

Relevant issues considered in the Draft EIS include understanding the types and amounts of air pollutants that would be emitted and the potential effects to public health and the environment. In addition, the analysis focused on the proposal and its possible effects on the inventoried wilderness characteristics, water (quality and quantity), visual resources, as well as local and regional economies in the area. Evaluating the availability and quality of key wildlife and plant habitat, as possibly impacted by the proposal was also a key issue in the Draft EIS.

The Draft EIS does not have a preferred alternative and evaluates in detail the Proposed Action (Alternative A), the No Action Alternative (Alternative B) and one action alternative (Alternative C). A preferred alternative will be identified after reviewing public comments and input from cooperating agencies. After the public comment period closes, the BLM will prepare the Final EIS, which may reflect changes or adjustments based on information received during public comment on the Draft EIS, new information, or changes in BLM policies or priorities. The Final EIS may include objectives and actions described in any of the alternatives analyzed in the Draft EIS.

The requested sale is for aggregate material consisting of a granite bedrock that would be mined utilizing blasting, crushing, and screening methods. Reclamation would be ongoing, following mining activity in an area, as soon as conditions would be feasible. Details of Alternative A include: Mined material would be used for concrete, asphalt and railroad ballast products and would take place on approximately 700 acres of BLM-administered public lands for up to 100 years; the southwestern boundary of the proposed mining area would border the Arkansas River Canyonlands Areas of Critical Environmental Concern (ACEC); surface mining would progress in five phases; mining direction for each phase would be from northwest to southeast, creating a “mine from behind” visual scenario from the Highway 50 corridor. Alternative B involves the continuation of surface mining on the existing private aggregate reserves, anticipated to last 15-30 years, with aggregate produced only for concrete and asphalt products. Alternative B consists of three phases, with the mining direction for phases 1 and 2 being west to east and phase 3 being north to south. Details on Alternative C include: Mined material would be used for concrete, asphalt and railroad ballast products and would take place on approximately 633 acres of BLM-administered public lands for up to 100 years; the boundary of this footprint would not border the Arkansas River Canyonlands ACEC; surface mining would progress in six phases; mining direction for each phase would vary, so a “mine from behind” visual scenario from the Highway 50 corridor may not always be achieved.

Please note that public comments and information submitted including names, street addresses, and email addresses of persons who submit comments will be available for public review and disclosure at the address listed previously during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jamie E. Connell,
Colorado State Director.

[FR Doc. 2020-02341 Filed 2-6-20; 8:45 am]

BILLING CODE 4310-JB-P